SECURITIES AND EXCHANGE COMMISSION

[Release No. IC-27507]

Notice of Applications for Deregistration Under Section 8(f) of the Investment Company Act of 1940

September 29, 2006.

The following is a notice of applications for deregistration under section 8(f) of the Investment Company Act of 1940 for the month of September, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on October 24, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE.,Washington, DC 20549-1090.

For Further Information Contact: Diane L. Titus at (202) 551-6810, SEC, Division of Investment Management, Office of Investment Company Regulation, 100 F Street, NE., Washington, DC 20549-4041.

SEI Absolute Return Master Fund, L.P. [File No. 811-21350]

SEI Absolute Return Fund, L.P. [File No. 811-21351]

Summary: Each applicant, a closed-end investment company, seeks an order declaring that it has ceased to be an investment company. Applicants have never made a public offering of their securities and do not propose to make a public offering or engage in business of any kind.

Filing Dates: The applications were filed on July 20, 2006, and amended on September 21, 2006 and September 27, 2006.

Applicants' Address: One Freedom Valley Dr., Oaks, PA 19456.

Evergreen American Retirement Trust [File No. 811-5434]

Summary: Applicant seeks an order declaring that it has ceased to be an investment company. On or about December 22, 1997, applicant transferred its assets to Evergreen American Retirement Fund, a newly created series of Evergreen Equity Trust, based on net asset value. Expenses incurred in connection with the reorganization were paid by applicant.

Filing Date: The application was filed on September 21, 2006.

Applicant's Address: 200 Berkeley St., Boston, MA 02116.

AmSouth Funds [File No. 811-5551]

Summary: Applicant seeks an order declaring that it has ceased to be an investment company. On September 23, 2005, each of applicant's series transferred its assets to one of the following corresponding funds: Pioneer Value Fund, Pioneer Short Term Income Fund, Pioneer Money Market Trust, Pioneer Fund, Pioneer Bond Fund, Pioneer Mid Cap Value Fund, Pioneer Series Trust II, Pioneer Tax Free Income Fund, Pioneer Series Trust I, Pioneer Series Trust IV and Pioneer Ibbotson Asset Allocation Series, based on net asset value. Expenses of $5,510,356 incurred in connection with the reorganization were paid by AmSouth Asset Management Inc., applicant's investment adviser, Pioneer Investment Management, Inc., the acquiring fund's investment adviser, and AmSouth Bancorporation, the parent company of applicant's investment adviser.

Filing Dates: The application was filed on August 10, 2006, and amended on September 21, 2006.

Applicant's Address: 3435 Stelzer Rd., Columbus, OH 43219.

Mason Street Funds, Inc. [File No. 811-7961]

Summary: Applicant seeks an order declaring that it has ceased to be an investment company. On March 24, 2006, a series of applicant, Mason Street Index 400 Stock Fund, transferred its assets to a series of Federated Index Trust, based on net asset value. On March 31, 2006, applicant's remaining series transferred their assets, based on net asset value, to corresponding series of the following funds: American Century Mutual Funds, Inc., American Century Investment Trust, American Century Capital Portfolios, Inc., American Century Quantitative Equity Funds, Inc., American Century World Mutual Funds, Inc., American Century Strategic Asset Allocations, Inc., American Century Municipal Trust and Federated Index Trust. Expenses of $2,496,358 incurred in connection with the reorganization were paid by Northwestern Mutual Life Insurance Company, Mason Street Advisors, LLC, applicant's investment adviser, American Century Companies, Inc., and Federated Equity Management Company of Pennsylvania, or one or more of their affiliates.

Filing Date: The application was filed on August 29, 2006.

Applicant's Address: 720 East Wisconsin Ave., Milwaukee, WI 53202.

UBS Aspen Fund, L.L.C. [File No. 811-9581]

Summary: Applicant, a closed-end investment company, seeks an order declaring that it has ceased to be an investment company. On June 30, 2006, applicant made a final liquidating distribution to its shareholders, based on net asset value. Expenses of $59,316 incurred in connection with the liquidation were paid by PFPC Inc., applicant's administrator.

Filing Date: The application was filed on August 24, 2006.

Applicant's Address: c/o UBS Financial Services Inc., 1285 Avenue of the Americas, New York, NY 10019.

Analysts Investment Trust [File No. 811-7778]

Summary: Applicant seeks an order declaring that it has ceased to be an investment company. On November 30, 2005, applicant made a liquidating distribution to its shareholders, based on net asset value. Expenses of approximately $1,550 incurred in connection with the liquidation were paid by Equity Analysts, Inc., applicant's investment adviser.

Filing Dates: The application was filed on August 14, 2006, and amended on September 12, 2006.

Applicant's Address: 7750 Montgomery Rd., Cincinnati, OH 45326.

AXP Stock Series, Inc. [File No. 811-498]

Summary: Applicant seeks an order declaring that it has ceased to be an investment company. On March 7, 2006, applicant transferred its assets to RiverSource Large Cap Series, Inc., based on net asset value. Expenses of $59,494 incurred in connection with the reorganization were paid by RiverSource Investments, LLC, applicant's investment adviser.

Filing Dates: The application was filed on July 7, 2006, and amended on September 8, 2006.

Applicant's Address: 901 Marquette Ave. South, Suite 2810, Minneapolis, MN 55402-3268.

Matterhorn Growth Fund, Inc. [File No. 811-3054]

Summary: Applicant seeks an order declaring that it has ceased to be an investment company. On February 28, 2006, applicant transferred its assets to CSI Equity Fund, a series of The World Funds, Inc., based on net asset value. Expenses of $81,443 incurred in connection with the reorganization were paid by applicant and the acquiring fund.

Filing Dates: The application was filed on June 5, 2006, and amended on August 1, 2006 and September 8, 2006.

Applicant's Address: 301 Oxford Valley Rd., Suite 802B, Yardley, PA 19067.

The Treasurer's Fund, Inc. [File No. 811-5347]

Summary: Applicant seeks an order declaring that it has ceased to be an investment company. On October 27, 2005, applicant made a liquidating distribution to its shareholders, based on net asset value. Expenses of $36,290 incurred in connection with the liquidation were paid by Gabelli Fixed Income, LLC, applicant's investment adviser.

Filing Dates: The application was filed on January 5, 2006, and amended on September 25, 2006.

Applicant's Address: c/o Gabelli Fixed Income, LLC, One Corporate Center, Rye, NY 10580-1422.

DB Hedge Strategies Fund LLC [File No. 811-10561]

Summary: Applicant, a closed-end investment company, seeks an order declaring that it has ceased to be an investment company. Applicant is not presently making a public offering of its securities and does not propose to make a public offering. Applicant has one remaining shareholder, which is an affiliate of the investment adviser, and will continue to operate as a private investment fund in reliance on section 3(c)(1) of the Act.

Filing Dates: The application was filed on March 9, 2006, and amended on September 28, 2006.

Applicant's Address: DB Investment Managers, Inc., 345 Park Ave., New York, NY 10154.

For the Commission, by the Division of Investment Management, pursuant to delegated authority.
Nancy M. Morris,
Secretary.

[FR Doc. E6-16461 Filed 10-4-06; 8:45 am]

BILLING CODE 8011-01-P